FEDERAL COMMUNICATIONS COMMISSION

47 CFR Part 101

[WT Docket No. 07-54; RM-11043; FCC 07-163]

Amendment of the Commission's Rules To Modify Antenna Requirements for the 10.7-11.7 GHz Band

AGENCY: Federal Communications Commission.

ACTION: Final rule.

SUMMARY: In this document, the Commission amends its rules to allow the use of smaller antennas by Fixed Service licensees in the 10.7-11.7 GHz band. The Commission also adopts rules to ensure that the use of smaller antennas does not harm other users in the band. This action will facilitate a range of fixed microwave applications—including those that support next generation mobile services—that are not accommodated under the existing rules for the band.

DATES: Effective Date: October 31, 2007.

FOR FURTHER INFORMATION CONTACT: Brian Wondrack, Broadband Division, Wireless Telecommunications Bureau at (202) 418-0653 or via the Internet at Brian.Wondrack@fcc.gov.

SUPPLEMENTARY INFORMATION: This is a summary of the Commission's Report and Order, WT Docket No. 07-54, RM-11043, adopted September 7, 2007 and released September 10, 2007. The full text of this document is available on the Commission's Internet site at http://www.fcc.gov. It is also available for inspection and copying during regular business hours in the FCC Reference Center (Room CY-A257), 445 12th Street, SW., Washington, DC 20554. The full text of this document also may be purchased from the Commission's duplication contractor, Best Copy and Printing Inc., Portals II, 445 12th Street, SW., Room CY-B402, Washington, DC 20554; telephone (202) 488-5300; fax (202) 488-5563; e-mail FCC@BCPIWEB.COM. Alternate formats are available to persons with disabilities by e-mail @ FCC504@fcc.gov or by calling (202) 418-0530 or TTY (202) 418-0432.

I. Summary of the Report and Order (WT Docket No. 07-54)

1. In this Report and Order, in WT Docket No. 07-54, the Commission adopted amendments to 47 CFR 101.115 to permit the installation of smaller antennas by Fixed Service (FS) operators in the 10.7-11.7 GHz (11 GHz) band. The Commission also amended 47 CFR 101.115 to require any FS licensee that deploys a smaller antenna that does not comply with Category A standard in the 11 GHz band to ensure that the introduction of such an antenna into the 11 GHz band does not cause any more interference to other licensees and applicants in the band than an antenna meeting the Category A standard. The Commission found that these modifications serve the public interest by facilitating the efficient use of the 11 GHz band while protecting other users in the band from interference. Because our adoption of the subject rules permits FS licensees to deploy smaller antennas without seeking waivers, the Report and Order also dismissed, as moot, pending requests for waiver to allow the use of smaller antennas in the 11 GHz band.

2. The Commission found that allowing licensees the flexibility of using smaller antennas in the 11 GHz band serves the public interest because the lower costs and enhanced benefits associated with 0.61 meter antennas will result in a more efficient use of the 11 GHz band without harming existing users. Technology has evolved since the Commission adopted the current antenna specifications for the 11 GHz band, and actions taken by the Commission in other FS and mobile bands have increased the need for greater flexibility for FS in the 11 GHz band. Antenna standards exist for the purpose of promoting the use of the most discriminating equipment to facilitate the introduction of new transmission paths. As noted in the NPRM, the Commission has reconsidered similar technical specifications that effectively limited the size of antennas used in other bands, including those used by satellite, in light of the technological evolution of communications equipment since those specifications were first adopted. Accordingly, the Commission found amending the antenna specifications in the 11 GHz band to be consistent with actions taken in other bands, including the 10 GHz band.

3. The Commission rejected the contentions by some commenting parties that proponents of the rule change have failed to demonstrate that there is a need for additional FS operations in the 11 GHz band and that harmful interference can be avoided. The Commission found that commenting parties presented a strong record demonstrating that the proposed rule would afford FS users the flexibility necessary to more fully and efficiently utilize the 11 GHz band by deploying 0.61 meter antennas, thereby facilitating a range of fixed microwave applications, including backhaul and more innovative and emerging wireless services. The FS has a special need for flexibility in the use of their spectrum because the Commission has reallocated FS spectrum to other services in recent years and because the new spectrum available to FS is most suitable for short-range applications.

4. The Commission also rejected, as unfounded, the suggestion that the use of smaller antennas would limit the availability of 11 GHz spectrum in rural areas. No evidence was introduced to support such a contention in this proceeding. The Commission anticipated that most small antennas will be used for shorter links in urban or suburban areas. However, the Commission also noted that it is not in the public interest to make less efficient use of the spectrum solely for the convenience of one licensee.

5. The 11 GHz band is allocated within the United States on a co-primary basis to FS and Fixed Satellite Service (FSS). In this Report and Order, the Commission rejected the proposal by Intelsat, Ltd. to segment the 11 GHz band by allocating 500 megahertz of spectrum to FS and 500 megahertz of spectrum to the FSS. The Commission found that the proposal exceeds the scope of this proceeding. The Commission also found that there is no record to support such an action in this proceeding. The Commission noted that the band segmentation proposal was a radically different solution for avoiding interference between FS and FSS operators and has been offered at the comment stage in this proceeding without any study of its implications. Furthermore, the domestic use of the 11 GHz band by the FSS has been limited, to date, because it has sought to protect the use and expansion of terrestrial microwave services within the band. The Commission emphasized in the Report and Order that its rules explicitly limit satellite use of the 11 GHz band to international systems. Under those circumstances, the Report and Order found no support for denying FS operators access to half of the 11 GHz band. The Commission has designated the 11 GHz band as one of the relocation bands for emerging technologies.

6. In the Report and Order, the Commission adopted modifications to the antenna standards for FS operation in the 11 GHz band. The Commission rejected FiberTower's proposal to have two different Category A and Category B standards. Instead, the Commission revised the Category B standard and treated all antennas that do not comply with the Category A standard as Category B antennas. The Commission also adopted a special provision allowing the use of 11 GHz Category B antennas in all areas, as opposed the normal restriction limiting Category B antennas to rural areas. The Commission also rejected a proposal to impose an EIRP limitation on facilities using Category B antennas. Although the Commission generally agreed that larger antennas will be more appropriate for longer links, it found that there may be situations where an operator has no alternative to using a smaller antenna for a longer link.

7. The Commission generally concluded that allowing smaller antennas in the 11 GHz band will not harm existing users. An applicant proposing the use of a smaller antenna will need to coordinate its proposed facilities with existing users. Moreover, the record contained specific analyses submitted by proponents of the rule changes indicating that the use of smaller FS antennas in the 11 GHz band is not likely to cause significantly more interference than current antennas. Although the Commission specifically sought comment on the Alcatel White Paper in the NPRM, none of the opponents of allowing smaller antennas in the 11 GHz band addressed the White Paper or attempted to rebut its showings. In addition, the Commission further noted that none of the opponents offered any engineering analysis to show that there would be any material risk of increased interference.

8. The Commission rejected arguments by Intelsat, Ltd. that the Commission should prohibit the use of smaller antennas in the 11 GHz band because other users in the band will experience harmful interference due to the aggregate effect of several nearby FS antennas. The Commission emphasized that no opponent of the rule changes provided any engineering analysis or other evidence to support their contentions. Moreover, the Commission found that the existing coordination procedures, such as the right of existing users to raise objections in the coordination process and the practice of using different frequency channels, should be sufficient to protect existing FS and FSS operators. The Commission noted that the primary concern of opponents appears to be that allowing the use of smaller antennas in the 11 GHz band would result in increased FS use of the band and increase the possibility that aggregate interference would occur. However, the Commission emphasized that it has limited the expansion of FSS in the 11 GHz band in order protect the future use of the band for FS. Accordingly, the Commission viewed rule changes that would allow greater FS use of the 11 GHz band as beneficial to the public interest, so long as existing users would not be harmed.

9. In the Report and Order, the Commission noted that Mobile Satellite Ventures, L.P. (MSV) and Terrestar Networks, Inc. (Terrestar) identified a more specific concern about the effect of aggregate interference on its next generation, geostationary orbit (GSO) Mobile Satellite Service (MSS) gateway earth stations authorized for feeder link operations in the 11 GHz band. The Commission stated that it expected all FS applicants for new or modified facilities in the 11 GHz band to carefully coordinate their operations with the authorized feeder link operations of any licensed GSO MSS gateway earth station in the 11 GHz band so as to avoid harmful aggregate interference. Specifically, the Commission expects FS applicants to consider the possibility of aggregate interference in determining whether they must coordinate with the authorized feeder link operations of any licensed GSO MSS gateway earth station in the 11 GHz band. If an MSS licensee raises aggregate interference concerns in the coordination process, the Commission stated that the licensee and the FS applicant must work to resolve those concerns in the coordination process. If issues relating to aggregate interference are brought to the Commission's attention, either in a statement submitted with an application or in a timely petition, the Commission will carefully consider such issues.

10. The Commission rejects the unsupported contention that errors in correctly pointing antennas will occur more frequently with smaller antennas and thereby cause greater interference to other users in the band. FS licensees and equipment manufacturers demonstrated that they have a strong incentive to accurately point their antennas and routinely point antennas to a high degree of accuracy. The record demonstrated that there is no significant difference between antennas currently authorized under the Commission's Rules and smaller antennas in terms of the likelihood of pointing error. Furthermore, the parties stated that they would work quickly to correct any pointing errors that do occur, and the Commission expects all licensees to promptly remedy any errors that do exist.

11. The Commission adopted a rule that in those instances where a FS licensee deploys a smaller, Category B compliant antenna in the 11 GHz band, the FS licensee must modify the use of such antenna if another FS or FSS licensee or applicant in the 11 GHz band makes a showing (i) that it is likely to receive interference due to the use of the smaller, Category B compliant antenna and (ii) that such interference would not exist if the FS station were using a Category A compliant antenna instead. In response to such a showing, the FS licensee that had opted to deploy a smaller, Category B compliant antenna must either replace its antenna with a Category A complaint antenna or appropriately reduce EIRP. That rule will place other applicants and licensees in the 11 GHz band—whether FS or FSS—in a position no worse than if an FS licensee were using a Category A compliant antenna. The Commission rejected a proposal to place language in the rule referencing the on-axis EIRP of the station in question as unnecessary and unduly restrictive. The Commission believes that FS licensees using smaller antennas should have the flexibility to adjust their EIRP in order to resolve interference concerns, so long as FS and FSS applicants are no worse off than they were if the licensee was using an antenna meeting Category A standards.

12. The Commission also adopted a rule stating that a FS licensee that opts to deploy a Category B compliant antenna in the 11 GHz band may only object to a prior coordination notice based on interference if the predicted interference would not otherwise exist if the FS licensee were using a Category A compliant antenna instead of a Category B compliant antenna. The Commission found that the adoption of these rules serves the public interest by appropriately balancing the rights of all interested parties in the 11 GHz band, promoting the efficient use of the spectrum, and protecting the rights of existing and future users of the band.

13. The Commission also declined to establish a deadline for the resolution of interference complaints involving FS interference to FSS earth stations. The Commission has not mandated a specific deadline for resolving interference complaints in other point-to-point microwave bands, and the 11 GHz band does not have any unique characteristics that would justify a special rule for that band. In addition, proponents of the proposal failed to demonstrate that our existing rules are inadequate or that FS licensees are unwilling to resolve interference issues as they occur.

14. Nextlink Wireless, Inc., First Avenue Networks, Inc., Telecom Transport Management, Inc., and Conterra Ultra Broadband, LLC had filed waiver requests seeking permission to use smaller antennas in the 11 GHz band. The Commission dismissed the pending waiver requests as moot. The rules adopted in this Report and Order will provide the parties seeking a waiver with the opportunity to use smaller antennas in the 11 GHz band. The Commission granted FiberTower a waiver to permit it to deploy smaller antennas in the 11 GHz band subject to a condition that it must comply with the outcome of this rulemaking proceeding. The Commission will terminate the waiver granted to FiberTower on the date the rules adopted herein become effective.

II. Final Regulatory Flexibility Analysis

15. As required by the Regulatory Flexibility Act of 1980, as amended (RFA), we incorporated an Initial Regulatory Flexibility Analysis (IRFA) of the possible significant economic impact on a substantial number of small entities by the policies and rules proposed in the Notice of Proposed Rule Making (NPRM) in WT Docket 07-54. The Commission sought written public comment on the proposals in the NPRM, including comment on the IRFA. Because we amend the rules in this Report and Order, we have included this Final Regulatory Flexibility Analysis (FRFA). This present FRFA conforms to the RFA.

A. Need for, and Objectives of, This Report and Order

16. In this Report and Order, we adopt amendments to Section 101.115 of the Commission's rules to permit the installation of smaller antennas by Fixed Service (FS) operators in the 10.7—11.7 GHz (11 GHz) band. Section 101.115(b) of the Commission's rules establishes directional antenna standards designed to maximize the use of microwave spectrum, including the 11 GHz band, while avoiding interference between operators. More specifically, the Commission's rules set forth certain requirements, specifications, and conditions pursuant to which FS stations may use antennas that comply with either the more stringent performance standard in Category A (also known as Standard A) or the less stringent performance standard in Category B (also known as Standard B). The rule on its face does not mandate a specific size of antenna. Rather, it specifies certain technical parameters—maximum beamwidth, minimum antenna gain, and minimum radiation suppression—that, depending on the state of technology at any point in time, directly affect the size of a compliant antenna that may be deployed in the 11 GHz band. The Commission found a demonstrated need in this proceeding to reconsider and to modify the antenna standards set forth in Section 101.115 of the Commission's rules because actions taken by the Commission in other bands have increased the need for greater flexibility for FS in the 11 GHz band; because technology has significantly evolved since the Commission last considered the antenna specifications for the 11 GHz band; and because the Commission has reconsidered similar technical specifications that effectively limited the size of antennas used in other bands, including those used by satellite, in light of the technological evolution of communications equipment since those specifications were first adopted.

17. In this Report and Order, we adopt amendments to Section 101.115 of the Commission's rules to revise the Category B standards for the 11 GHz band to permit, as proposed in the NPRM, the use of FS antennas with reduced mainbeam gain, increased beamwidth, and modified sidelobe suppression. We conclude in this Report and Order that, by treating smaller antennas that do not comply with Category A standard as Category B antennas, the amended rules will afford licensees maximum flexibility in deploying FS antennas in the 11 GHz band. While licensees in the FS will now have additional options to deploy smaller antennas in the 11 GHz band that comply with the revised Category B standard, FS licensees also retain the discretion to maintain and continue to deploy Category A compliant antennas in the band. In this Report and Order, we also amend Section 101.115 of the Commission's rules to impose a duty on any FS licensee that deploys a smaller antenna in the 11 GHz band that does not comply with the Category A standard to ensure that the introduction of such antennas does not cause harmful interference to other licensees and applicants in the band. We find that the amendments we adopt in this Report and Order further the public interest and promote our goals of facilitating the efficient use of the 11 GHz band while also protecting other users in the band from interference.

B. Summary of Significant Issues Raised by Public Comments in Response to the NPRM

18. There were no comments filed that specifically addressed the rules and policies proposed in the IRFA.

C. Description and Estimate of the Number of Small Entities to Which Rules Will Apply

19. The RFA directs agencies to provide a description of, and where feasible, an estimate of the number of small entities that may be affected by the rules adopted herein. The RFA generally defines the term “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the SBA.

20. Nationwide, there are a total of approximately 22.4 million small businesses, according to SBA data. A “small organization” is generally “any not-for-profit enterprise which is independently owned and operated and is not dominant in its field.” Nationwide, as of 2002, there were approximately 1.6 million small organizations. The term “small governmental jurisdiction” is defined generally as “governments of cities, towns, townships, villages, school districts, or special districts, with a population of less than fifty thousand.” Census Bureau data for 2002 indicate that there were 87,525 local governmental jurisdictions in the United States. We estimate that, of this total, 84,377 entities were “small governmental jurisdictions.” Thus, we estimate that most governmental jurisdictions are small.

21. Fixed Microwave Services. Microwave services include common carrier, private-operational fixed, and broadcast auxiliary radio services. At present, there are approximately 36,708 common carrier fixed licensees and 59,291 private operational-fixed licensees and broadcast auxiliary radio licensees in the microwave services. The Commission has not yet defined a small business with respect to microwave services. For purposes of the FRFA, we will use the SBA's definition applicable to Cellular and other Wireless Telecommunications companies—i.e., an entity with no more than 1,500 persons. Census Bureau data for 2002 show that there were 1,397 firms in this category that operated for the entire year. Of this total, 1,378 firms had employment of 999 or fewer employees, and 19 firms had employment of 1,000 employees or more. Thus, under this size standard, the majority of firms can be considered small. We note that the number of firms does not necessarily track the number of licensees. We estimate that all of the Fixed Microwave licensees (excluding broadcast auxiliary licensees) would qualify as small entities under the SBA definition.

22. Satellite Telecommunications and Other Telecommunications. There is no small business size standard developed specifically for providers of international service. The appropriate size standards under SBA rules are for the two broad census categories of “Satellite Telecommunications” and “Other Telecommunications.” Under both categories, such a business is small if it has $13.5 million or less in average annual receipts.

23. The first category of Satellite Telecommunications “comprises establishments primarily engaged in providing point-to-point telecommunications services to other establishments in the telecommunications and broadcasting industries by forwarding and receiving communications signals via a system of satellites or reselling satellite telecommunications.” For this category, Census Bureau data for 2002 show that there were a total of 371 firms that operated for the entire year. Of this total, 307 firms had annual receipts of under $10 million, and 26 firms had receipts of $10 million to $24,999,999. Consequently, we estimate that the majority of Satellite Telecommunications firms are small entities that might be affected by our action.

24. The second category of Other Telecommunications “comprises establishments primarily engaged in (1) providing specialized telecommunications applications, such as satellite tracking, communications telemetry, and radar station operations; or (2) providing satellite terminal stations and associated facilities operationally connected with one or more terrestrial communications systems and capable of transmitting telecommunications to or receiving telecommunications from satellite systems.” For this category, Census Bureau data for 2002 show that there were a total of 332 firms that operated for the entire year. Of this total, 259 firms had annual receipts of under $10 million and 15 firms had annual receipts of $10 million to $24,999,999. Consequently, we estimate that the majority of Other Telecommunications firms are small entities that might be affected by our action.

25. Space Stations (Geostationary). Commission records reveal that there are 15 space station licensees. We do not request nor collect annual revenue information, and thus are unable to estimate of the number of geostationary space stations that would constitute a small business under the SBA definition cited above, or apply any rules providing special consideration for Space Station (Geostationary) licensees that are small businesses.

26. Fixed Satellite Transmit/Receive Earth Stations. Currently there are approximately 3,390 operational fixed-satellite transmit/receive earth stations authorized for use in the C- and Ku-bands. The Commission does not request or collect annual revenue information, and thus is unable to estimate the number of earth stations that would constitute a small business under the SBA definition.

D. Description of Projected Reporting, Recordkeeping, and Other Compliance Requirements

27. This Report and Order adopts no new reporting or recordkeeping requirements. This Report and Order adopts amendments to Part 101 of the Commission's rules to afford FS licensees in the 11 GHz band with the flexibility to deploy smaller antennas that comply with the less stringent Category B standard or to maintain as well as continue to deploy antennas that comply with the more stringent Category A standard. The proposed amendments would apply equally to large and small entities and benefit all FS licensees by reducing the burden of seeking individual waivers to permit the use of smaller antennas in the 11 GHz band.

E. Steps Taken To Minimize Significant Economic Impact on Small Entities, and Significant Alternatives Considered

28. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance rather than design standards; and (4) an exemption from coverage of the rule, or any part thereof for small entities.

29. In this Report and Order, we adopt amendments to Section 101.115 of the Commission's Rules to revise the Category B standard for the 11 GHz band to permit, as proposed in the NPRM, the use of FS antennas with reduced mainbeam gain, increased beamwidth, and modified sidelobe suppression. Licensees in the FS will now have additional options to deploy smaller antennas in the 11 GHz band that comply with the revised Category B standard while retaining the discretion to maintain and continue to deploy antennas that comply with the more stringent Category A standard, which has not been modified in this Report and Order. Smaller antennas that comply with the revised Category B standard cost less to acquire, deploy, and maintain, thereby reducing the expenditure of capital and human resources otherwise necessary to deploy and maintain Category A compliant antennas. We conclude in this Report and Order that our action serves the public interest by facilitating the efficient use of the 11 GHz band. The deployment of smaller antennas that comply with the revised Category B standard could promote a wide range of fixed microwave applications that are not currently being provided for in the 11 GHz band for financial, aesthetic, and regulatory reasons. In addition, a number of the commenting parties in this proceeding identify themselves as small business entities and express their need to deploy smaller antennas in the 11GHz band in order to open up economic opportunities and to provide for a wide range of services, including, for example, the provision of backhaul services.

30. Report to Congress: The Commission will send a copy of the Report and Order, including this FRFA, in a report to be sent to Congress pursuant to the Congressional Review Act. In addition, the Commission will send a copy of the Report and Order, including the FRFA, to the Chief Counsel for Advocacy of the SBA. A copy of the Report and Order and the FRFA (or summaries thereof) will also be published in the Federal Register.

III. Procedural Matters

31. Paperwork Reduction Analysis: This document contains no new or modified information collection requirements subject to the Paperwork Reduction Act of 1995 (PRA), Public Law 104.13.

32. Congressional Review Act: The Commission will send a copy of this Report and Order in a report to be sent to Congress and the Government Accountability Office pursuant to the Congressional Review Act, see 5 U.S.C. 801 (a)(1)(A).

IV. Ordering Clauses

33. Pursuant to Sections 1, 2, 4(i), 7, 10, 201, 214, 301, 302, 303, 307, 308, 309, 310, 319, 324, 332, 333 and 706 of the Communications Act of 1934, 47 U.S.C. 151, 152, 154(i), 157, 160, 201, 214, 301, 302, 303, 307, 308, 309, 310, 319, 324, 332, 333, and 706, that this Report and Order is adopted.

34. Pursuant to Section 4(i) of the Communications Act of 1934, 47 U.S.C. 154(i), and Section 1.925 of the Commission's rules, that the Petition for Waiver filed by Nextlink Wireless, Inc. on August 4, 2006, the Petition for Waiver filed by First Avenue Networks, Inc. on August 10, 2006, the Petition for Waiver and Expedited Action filed by Telecom Transport Management, Inc. on September 8, 2006, and the Petition for Expedited Waiver Pending Rulemaking filed by Conterra Ultra Broadband, LLC on January 22, 2007 are dismissed as moot.

35. Pursuant to Section 4(i) of the Communications Act of 1934, 47 U.S.C. 154(i), and Section 1.925 of the Commission's rules, that the waiver granted to FiberTower Corporation in FiberTower, Inc., Order, 21 FCC Rcd 6386 (WTB 2006) is terminated on the date the rules adopted in this Report and Order become effective, with facilities authorized pursuant to the waiver being grandfathered.

36. The Commission's Consumer and Governmental Affairs Bureau, Reference Information Center, shall send a copy of this Report and Order, including the Final Regulatory Flexibility Analysis, to the Chief Counsel for Advocacy of the Small Business Administration.

List of Subjects in 47 CFR Part 101

Communications equipment, Radio, Reporting and recordkeeping requirements.

Federal Communications Commission.
Marlene Dortch,
Secretary.

Rule Changes

For the reasons discussed in the preamble, the Federal Communications Commission amends 47 CFR part 101 as follows:

PART 101—FIXED MICROWAVE SERVICES

1. The authority citation for part 101 continues to read as follows:

Authority: 47 U.S.C. 154, 303.

2. Section 101.115 is amended by revising the entry for “10,700 to 11,700” ⁵ in the table following paragraph (b)(2), redesignating paragraph (f) as paragraph (g), and adding a new paragraph (f) to read as follows:

§ 101.115 Directional antennas.

(b) * * *

(2) * * *

Frequency (MHz) | Category | Maximum beam-width to 3 dB pts | Minimum antenna Gain (dBi) | Minimum radiation suppression to angle in degrees from centerline of main beam in decibels: 5° to 10° | Minimum radiation suppression to angle in degrees from centerline of main beam in decibels: 10° to 15° | Minimum radiation suppression to angle in degrees from centerline of main beam in decibels: 15° to 20° | Minimum radiation suppression to angle in degrees from centerline of main beam in decibels: 20° to 30° | Minimum radiation suppression to angle in degrees from centerline of main beam in decibels: 30° to 100° | Minimum radiation suppression to angle in degrees from centerline of main beam in decibels: 100° to 140° | Minimum radiation suppression to angle in degrees from centerline of main beam in decibels: 140° to 180°
* * * * * * *
10,700-11,700 ⁵ | A | 2.2 | 38 | 25 | 29 | 33 | 36 | 42 | 55 | 55
| B | 3.5 | 33.5 | 17 | 24 | 28 | 32 | 35 | 40 | 45
* * * * * * *

* * * * *

(f) In the 10,700-11,700 MHz band, a fixed station may employ transmitting and receiving antennas meeting performance standard B in any area. If a Fixed Service or Fixed Satellite Service licensee or applicant makes a showing that it is likely to receive interference from such fixed station and that such interference would not exist if the fixed station used an antenna meeting performance standard A, the fixed station licensee must modify its use. Specifically, the fixed station licensee must either substitute an antenna meeting performance standard A or operate its system with an EIRP reduced so as not to radiate, in the direction of the other licensee, an EIRP in excess of that which would be radiated by a station using a Category A antenna and operating with the maximum EIRP allowed by the rules. A licensee or prior applicant using an antenna that does not meet performance Standard A may object to a prior coordination notice based on interference only if such interference would be predicted to exist if the licensee or prior applicant used an antenna meeting performance standard A.

[FR Doc. E7-19342 Filed 9-28-07; 8:45 am]

BILLING CODE 6712-01-P